INTERNATIONAL TRADE COMMISSION

Information Quality Guidelines

AGENCY: International Trade Commission.

ACTION: Notice.

SUMMARY: The United States International Trade Commission (Commission) announces the posting of its final Information Quality Guidelines (Guidelines) on the Commission's website.

EFFECTIVE DATE: As indicated in more detail in the Guidelines, the Guidelines are effective as of October 1, 2002.

FOR FURTHER INFORMATION CONTACT: Stephen A. McLaughlin, Acting Chief Information Officer, telephone 202-205-3131. Hearing-impaired individuals are advised that information on this matter may be obtained by contacting the Commission's TDD terminal on 202-205-3105. Persons with mobility impairments who will need special assistance in gaining access to the Commission should contact the Office of the Secretary at 202-205-2000.

SUPPLEMENTARY INFORMATION: Section 515 of the Treasury and General Government Appropriations Act for FY 2001 (Pub. L. 106-554) directed the Office of Management and Budget (OMB) to issue government-wide guidelines providing guidance to Federal agencies for ensuring and maximizing the quality, objectivity, utility, and integrity of information, including statistical information, disseminated by Federal agencies. OMB then published “Guidelines for Ensuring and Maximizing the Quality, Objectivity, Utility, and Integrity of Information Disseminated by Federal Agencies” on September 28, 2001 (66 FR 49718), as updated on January 3, 2002 (67 FR 369), and corrected on February 22, 2002 (67 FR 8452) (OMB's Government-Wide Guidelines). In compliance with section 515 and OMB's Government-Wide Guidelines, each Federal agency is required to publish guidelines for ensuring and maximizing the quality, objectivity, utility, and integrity of the information it disseminates. The Commission posted draft Guidelines on the Commission's Web site (www.usitc.gov), published draft Guidelines on June 3, 2002 (67 FR 38293), and sought public comments. Taking into consideration these comments, as well as guidance from OMB, the Commission revised its Guidelines. The Commission now announces the publication of its final Guidelines on its Web site. The Commission's Guidelines describe the agency's procedures for ensuring the quality (including objectivity, utility, and integrity) of information that it disseminates, the procedures by which an affected person may obtain correction of information disseminated by the Commission that does not comply with OMB's Government-Wide Guidelines and the Commission's Guidelines, and the procedures for periodic reporting to OMB.

Issued: September 27, 2002.
By order of the Commission.
Marilyn R. Abbott,
Secretary to the Commission.

[FR Doc. 02-25114 Filed 10-1-02; 8:45 am]

BILLING CODE 7020-02-P